DEPARTMENT OF COMMERCE

International Trade Administration

[A-475-818]

Certain Pasta From Italy: Extension of Time Limits for the Preliminary Results of Fourteenth Antidumping Duty Administrative Review

AGENCY: Import Administration, International Trade Administration, Department of Commerce.

FOR FURTHER INFORMATION CONTACT: Joy Zhang or George McMahon, AD/CVD Operations, Office 3, Import Administration, International Trade Administration, U.S. Department of Commerce, 14th Street and Constitution Ave, NW., Washington, DC 20230; telephone: (202) 482-1168 and (202) 482-1167, respectively.

Background

On August 31, 2010, the U.S. Department of Commerce (“Department”) published a notice of initiation of the administrative review of the antidumping duty order on certain pasta from Italy, covering the period July 1, 2009, to June 30, 2010. See Initiation of Antidumping and Countervailing Duty Administrative Reviews and Request for Revocation in Part, 75 FR 53274 (August 31, 2010). The preliminary results of this review are currently due no later than April 2, 2011.

Extension of Time Limit of Preliminary Results

Section 751(a)(3)(A) of the Tariff Act of 1930, as amended (“the Act”), requires the Department to make a preliminary determination within 245 days after the last day of the anniversary month of an order for which a review is requested. Section 751(a)(3)(A) of the Act further states that if it is not practicable to complete the review within the time period specified, the administering authority may extend the 245 day period to issue its preliminary results by up to 120 days.

We determine that completion of the preliminary results of this review within the 245 day period is not practicable for the following reasons. This review requires the Department to gather and analyze a significant amount of information pertaining to the company's sales practices, manufacturing costs, corporate relationships and an examination of a particular market situation allegation filed by petitioners.¹ Given the number and complexity of issues in this case, and in accordance with section 751(a)(3)(A) of the Act, we are extending the time period for issuing the preliminary results of review by 120 days. The preliminary results will now be due no later than August 1, 2011, the first business day following 120 days from the current deadline. See Notice of Clarification: Application of “Next Business Day” Rule for Administrative Determination Deadlines Pursuant to the Tariff Act of 1930, as Amended, 70 FR 24533 (May 10, 2005). The final results continue to be due 120 days after the publication of the preliminary results.

¹ Petitioners consist of New World Pasta Company, Dakota Growers Pasta Company, and American Italian Pasta Company.

This notice is issued and published in accordance with sections 751(a)(3)(A) and 777(i)(1) of the Act.

Dated: February 18, 2011.
Christian Marsh,
Deputy Assistant Secretary for Antidumping and Countervailing Duty Operations.

[FR Doc. 2011-4394 Filed 2-25-11; 8:45 am]

BILLING CODE 3510-DS-P